DEPARTMENT OF ENERGY

Federal Energy Regulatory Commission

Combined Notice of Filings # 2

October 12, 2007.

Take notice that the Commission received the following open access transmission tariff filings:

Docket Numbers: OA07-42-002.

Applicants: Southern Company Services, Inc.

Description: Compliance Filing of Southern Company to the Commission's Order Rejecting Southern Company's CBM Filing.

Filed Date: 10/11/2007.

Accession Number: 20071011-5068.

Comment Date: 5 p.m. Eastern Time on Thursday, November 01, 2007.

Docket Numbers: OA08-3-000.

Applicants: Southern Indiana Gas and Electric Company.

Description: Order No. 890 Compliance Filing of Southern Indiana Gas and Electric Company.

Filed Date: 10/11/2007.

Accession Number: 20071011-5009.

Comment Date: 5 p.m. Eastern Time on Thursday, November 01, 2007.

Docket Numbers: OA08-4-000.

Applicants: Midwest Stand Alone Transmission Company; Midwest ISO Transmission Owners.

Description: Order 890 Compliance of Midwest Stand Alone Transmission Companies and Midwest ISO Transmission Owners.

Filed Date: 10/11/2007.

Accession Number: 20071011-5054.

Comment Date: 5 p.m. Eastern Time on Thursday, November 01, 2007.

Docket Numbers: OA08-5-000.

Applicants: Southwest Power Pool, Inc.

Description: Southwest Power Pool's Submission of Compliance Filing Revising Tariff pursuant to Order 890.

Filed Date: 10/11/2007.

Accession Number: 20071011-5050.

Comment Date: 5 p.m. Eastern Time on Thursday, November 01, 2007.

Docket Numbers: OA08-6-000.

Applicants: The Empire District Electric Company.

Description: The Empire District Electric Company Compliance Filing Pursuant to Paragraph 161 of Order No. 890.

Filed Date: 10/11/2007.

Accession Number: 20071011-5076.

Comment Date: 5 p.m. Eastern Time on Thursday, November 01, 2007.

Docket Numbers: OA08-7-000.

Applicants: American Electric Power Services Corp.

Description: Order No. 890 OATT of American Electric Power Services Corporation.

Filed Date: 10/11/2007.

Accession Number: 20071011-5082.

Comment Date: 5 p.m. Eastern Time on Thursday, November 01, 2007.

Docket Numbers: OA08-8-000.

Applicants: Westar Energy, Inc.

Description: Westar Energy, Inc. Compliance Filing Pursuant to Paragraph 161 of Order No. 890.

Filed Date: 10/11/2007.

Accession Number: 20071011-5077.

Comment Date: 5 p.m. Eastern Time on Thursday, November 01, 2007.

Docket Numbers: OA08-9-000.

Applicants: PJM Interconnection, L.L.C.

Description: PJM Interconnection, L.L.C. FPA Section 206 Filing with Non-Rate Terms and Conditions.

Filed Date: 10/11/2007.

Accession Number: 20071011-5087.

Comment Date: 5 p.m. Eastern Time on Thursday, November 01, 2007.

Docket Numbers: OA08-10-000.

Applicants: Alliant Energy Corporate Services, Inc.; Interstate Power and Light Company.

Description: Order No. 890 Open Access Transmission Tariff of Alliant Energy Corporate Services, Inc., as Agent for Interstate Power and Light Company.

Filed Date: 10/11/2007.

Accession Number: 20071011-5088.

Comment Date: 5 p.m. Eastern Time on Thursday, November 01, 2007.

Docket Numbers: OA08-11-000.

Applicants: Integrys Energy Operating Companies.

Description: Order No. 890 Compliance Filing of Integrys Energy Operating Companies.

Filed Date: 10/11/2007.

Accession Number: 20071011-5096.

Comment Date: 5 p.m. Eastern Time on Thursday, November 01, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-20623 Filed 10-18-07; 8:45 am]

BILLING CODE 6717-01-P